DEPARTMENT OF AGRICULTURE

Food and Nutrition Service

Agency Information Collection Activities: School Meals Operations Study: Evaluation of the COVID-19 Child Nutrition Waivers and Child Nutrition Programs

AGENCY: Food and Nutrition Service (FNS), USDA.

ACTION: Notice.

SUMMARY: In accordance with the Paperwork Reduction Act of 1995, this notice invites the general public and other public agencies to comment on this proposed information collection. This collection is a revision of a currently approved collection for the School Meals Operations (SMO) Study (OMB control number 0584-0607, expiration date 08/31/2022) with updated survey instruments for school year (SY) 2021-2022. This study will collect data from State agencies and public school food authorities (SFAs), including disaggregated administrative data and data on the continued use and effectiveness of the CN COVID-19 waivers.

DATES: Written comments must be received on or before June 21, 2021.

ADDRESSES: Comments may be sent to: Holly Figueroa, Food and Nutrition Service, U.S. Department of Agriculture, 1320 Braddock Pl, 5th floor, Alexandria, VA 22314. Comments may also be submitted via fax to the attention of Holly Figueroa at 703-305-2576 or via email to Holly.Figueroa@usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Holly Figueroa at holly.figueroa@usda.gov or 703-305-2105.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: School Meals Operations Study: Evaluation of the COVID-19 Child Nutrition Waivers and Child Nutrition Programs (formerly entitled School Meals Operations Study: State Agency COVID-19 Child Nutrition Waivers Evaluation).

Form Number: N/A.

OMB Number: 0584-0607.

Expiration Date: 08/31/2022.

Type of Request: Revision of a currently approved collection.

Abstract: FNS administers the school-based Child Nutrition (CN) Programs (i.e., the school meal programs) in partnership with States and local SFAs. Section 28(a) of the Richard B. Russell National School Lunch Act authorizes the U.S. Department of Agriculture Secretary to conduct annual national performance assessments of the school meal programs. FNS plans to conduct this annual assessment through the School Meals Operations (SMO) Study in SY 2021-2022. FNS will also use the SMO Study to fulfill States' reporting requirements on the nationwide waivers approved by FNS pursuant to section 2202 of the Families First Coronavirus Response Act (FFCRA) (Pub. L. 116-127). This notice covers the second iteration of the SMO Study, which will collect data from State and local agencies on the CN COVID-19 waivers as well as data on state and local CN program operations during SYs 2020-2021 and 2021-2022. Participation in the SMO Study will fulfill States' statutory reporting requirements for the CN COVID-19 nationwide waivers used in fiscal year (FY) 21 and FY 22, which correspond roughly to SYs 2020-21 and 2021-22, respectively.

The SMO Study is a revision of the previously approved Child Nutrition Program Operations Study II (CN-OPS II, OMB control number 0584-0607). It is designed to collect timely data on policy, administrative, and operational issues in the school-based CN Programs, which contributes to budget preparation, development and implementation of program policy and regulations, and identification of areas for technical assistance and training. Because the COVID-19 pandemic changed the way that school meal programs operated for SY 2020-2021, with other CN programs such as the Child and Adult Care Food Program and the Summer Food Service Program being used in place of or in combination with the National School Lunch and School Breakfast Programs (NSLP and SBP) to provide meals to students, the SMO Study will collect administrative and web survey data from States on each of these programs. Specifically, this study will help FNS obtain:

1. General descriptive data on the characteristics of CN Programs to inform the budget process and answer questions about topics of current policy interest;

2. Data on program operations to identify potential topics for training and technical assistance for SFAs and State Agencies (SAs) responsible for administering the CN programs;

3. Administrative data to identify program trends and predictors;

4. Information on the use and effectiveness of the CN COVID-19 waivers, which will be used to satisfy States' reporting requirements on these waivers under FFCRA.

The activities to be conducted subject to this notice include:

• Collecting disaggregated administrative data for FY 2021 and FY 2022 from 67 State Agency Directors that are currently only reported in aggregate on forms FNS-10, Report of School Program Operations, FNS-418, Report of the Summer Food Service Program for Children, and FNS-44, Report of the Child and Adult Care Food Program (which are approved under OMB# 0584-0594, Food Programs Reporting System (FPRS), expiration date 07/31/2023)

• Conducting two web surveys of 67 State Agency Directors to meet the statutory reporting requirements of the CN COVID-19 waivers separately for SY 2020-21 and SY 2021-22 within the one-year timelines set by the FFCRA

• Conducting one web survey of 1,266 public SFA Directors

The first year of the SMO Study, which sought clearance for data collection in SY 2020-2021, was cleared by the Office of Management and Budget on March 4, 2021 (School Meals Operations Study: State Agency COVID-19 Child Nutrition Waivers Evaluation, OMB control number 0584-0607, expiration date 08/31/2022). The Year 1 collection only included the state-level data collection components (web survey and administrative data collection) because it was repurposed to meet States' statutory reporting requirements for the nationwide CN COVID-19 waivers by gathering information on the use and effectiveness of the waivers from March-September 2020. This notice covers the second iteration of the SMO Study, which intends to collect data in SY 2021-2022 from both States and public SFAs and in SY 2022-23 from States only. The administrative data collection components subject to this notice will cover FY 2021 (October 2020-September 2021) and FY 2022 (October 2021-September 2022), which correspond roughly to SYs 2020-21 and 2021-22, respectively, while the web surveys will ask about program operations and the use and impacts of the CN COVID-19 waivers during SYs 2020-2021 and 2021-2022. The State-level surveys and administrative data collections will be used to satisfy States' reporting requirements on the CN COVID-19 nationwide waivers pursuant to the FFCRA.

Note: Personally identifiable information (PII) will not be used to retrieve survey records or data.

Affected Public: State, Local, and Tribal Governments: Respondent groups identified include: (1) SFA Directors for public schools, and (2) State Agency Directors from all 50 States, 5 territories and the District of Columbia.

Estimated Number of Respondents: The total estimated number of respondents is 1,339. This includes (1) 67 State Agency Directors (in some States, CN programs are administered by multiple agencies); the State Agency Directors are expected to participate in both of the administrative data collections (FY 21 and FY 22) and State Agency Director surveys subject to this notice (3 of the 67 State Agency Directors are also expected to participate in the pretest, which will only be conducted once), and (2) 1,272 SFA Directors. Six SFA Directors are expected to participate in the pre-test of the SFA Director web survey; these pretest participants are unique respondents and will not be included in the sample for the SFA survey. An additional 1,266 public SFA Directors will be included in the sample for the SFA Director web survey, of which 1,012 are expected to respond. The total number of respondents also includes 254 non-respondents whom FNS expects will not respond to the study activities.

Estimated Number of Responses per Respondent: State Agency Director respondents will be asked to complete an initial telephone meeting and respond to the FNS-10, -418 and -44 administrative data requests one time annually (two times total, in SY 2021-22 and SY 2022-23). SFA Director respondents will be asked to complete their web survey one time in SY 2021-22, while State Agency Directors will be asked to complete two web surveys in SY 2021-22 (fall of 2021 and spring/summer of 2022), each of which will focus on different sets of CN COVID-19 nationwide waivers in order to meet the statutory reporting timeline of one-year for each set of waivers under the FFCRA. In the event of non-response, State Agency Directors may receive reminder emails, a phone call, and a last chance postcard until the target of 67 respondents is reached. Similarly, SFA Directors who do not respond may receive reminders via email, phone, or post card until the target number of 1,012 respondents is reached. FNS estimates that respondents will average 6.65 responses (7,211 responses/1,085 respondents) across the entire collection, with non-respondents averaging 10.71 responses (2,720 responses/254 non-respondents). Across all participants in the collection (respondents and non-respondents) the average number of responses is 7.42 (9,931 responses/1,339 total respondents).

Estimated Total Annual Responses: 9,931.

Estimated Time per Response: The estimated time per response ranges from 3 minutes (0.0501 hours) to 6 hours depending on the instrument, as shown in the table below, with an average estimated time for all participants of 20 minutes (0.34 hours) per response.

Estimated Total Annual Burden on Respondents: 3,408.40 hours. See the table below for estimated total annual burden for each type of respondent.

BILLING CODE 3410-30-P

Cynthia Long,
Acting Administrator, Food and Nutrition Service.

[FR Doc. 2021-08212 Filed 4-20-21; 8:45 am]

BILLING CODE 3410-30-C